DEPARTMENT OF DEFENSE

Department of the Army

Availability for Non-Exclusive, Exclusive, or Partially Exclusive Licensing of U.S. Patent Application Concerning Method for Monitoring Arterial Oxygen Saturation

AGENCY: U.S. Army Medical Research and Materiel Command, DoD.

ACTION: Notice.

SUMMARY: In accordance with 37 CFR 404.6, announcement is made of the availability for licensing of U.S. Patent Application Serial Number 09/389,352 entitled “Method For Monitoring Arterial Oxygen Saturation” filed on September 9, 1999. Foreign rights are also available. This patent has been assigned to the United States Government as represented by the Secretary of the Army.

ADDRESSES: Commander, U.S. Army Medical Research and Material Command, ATTN: Command Judge Advocate, MCMR-JA, 504 Scott Street, Fort Detrick, Frederick, Maryland 21702-5012.

FOR FURTHER INFORMATION CONTACT: Ms. Elizabeth Arwine, Patent Attorney, (301) 619-7807 or telefax (301) 619-5034.

SUPPLEMENTARY INFORMATION: A method for taking reflectance oximeter readings within the nasal cavity and oral cavity and down through posterior pharynx. The method utilizes a reflectance plus oximeter sensor that is resistant to bodily fluids to contact one of these capillary beds for the taking of readings and then forwarding of these readings to an oximeter for display. The method includes inserting a reflectance pulse oximeter sensor into a cavity within a subject's skull and contacting a capillary bed in the cavity with the reflectance plus oximeter sensor.

Gregory D. Showalter,
Army Federal Register Liaison Officer.

[FR Doc. 00-20569 Filed 8-11-00; 8:45 am]

BILLING CODE 3710-08-M